DEPARTMENT OF THE TREASURY

Submission for OMB Review; Comment Request

September 11, 2008.

The Department of the Treasury is planning to submit following public information collection request to OMB for review and clearance under the Paperwork Reduction Act of 1995, Public Law 104-13. Copies of the submission(s) may be obtained by contacting the Treasury clearance officer listed. Comments regarding this information collection should be addressed to the OMB reviewer listed and to the Treasury Department Clearance Officer, Department of the Treasury, Room 11020, 1750 Pennsylvania Avenue, NW., Washington, DC 20220.

Dates: Written comments should be received on or before November 17, 2008 to be assured of consideration.

OMB Number: 1505-0195.

Type of Review: Extension.

Title: Race and National Origin Identification.

Description: This form will be used to collect applicant race and national origin information through the online application system. The data will be used to help Treasury Bureaus and Departmental Offices identify barriers to selection and determine the demographics of the overall applicant pool.

Respondents: Individuals.

Estimated Total Reporting Burden: 8,000 hours.

Clearance Officer: Joann Sokol, Human Resources, 202-622-0814, 1750 Pennsylvania Avenue, Washington, DC 20220.

Robert Dahl,
Treasury PRA Clearance Officer.

[FR Doc. E8-21905 Filed 9-18-08; 8:45 am]

BILLING CODE 4810-25-P